DEPARTMENT OF THE INTERIOR

National Park Service

[2253-665]

Notice of Intent To Repatriate a Cultural Item: San Francisco State University, San Francisco, CA

AGENCY: National Park Service, Interior.

ACTION: Notice.

SUMMARY: The San Francisco State University, in consultation with the appropriate Indian tribes, has determined that the cultural item meets the definition of a sacred object and repatriation to the Indian tribes stated below may occur if no additional claimants come forward. Representatives of any Indian tribe that believes itself to be culturally affiliated with the cultural item may contact the San Francisco State University NAGPRA Program.

DATES: Representatives of any Indian tribe that believes it has a cultural affiliation with the cultural item should contact the San Francisco State University at the address below by April 16, 2012.

ADDRESSES: Jeffrey Boland Fentress, San Francisco State University, Academic Affairs-ADM 447, San Francisco, CA 94132, telephone (415) 338-3075.

SUPPLEMENTARY INFORMATION: Notice is here given in accordance with the Native American Graves Protection and Repatriation Act (NAGPRA), 25 U.S.C. 3005, of the intent to repatriate a cultural item in the possession of the San Francisco State University (SFSU) that meet the definition of sacred objects under 25 U.S.C. 3001.

This notice is published as part of the National Park Service's administrative responsibilities under NAGPRA, 25 U.S.C. 3003(d) (3). The determinations in this notice are the sole responsibility of the museum, institution or Federal agency that has control of the Native American cultural item. The National Park Service is not responsible for the determinations in this notice.

History and Description of the Cultural Items

At an unknown date, a basket (item 75-6-4) was donated to the SFSU Treganza Museum. The coiled basket with a three-stick warp in a round, shouldered, narrow necked jar shape measures 8.3 cm in height and 14.2 cm in diameter and is made of willow, bracken-fern, redbud, yucca and bird quills. There are no records at the Treganza Museum concerning acquisition of this item.

Based on ethnographic research and consultation with the Santa Rosa Indian Community of the Santa Rosa Rancheria, California, (Tachi Yokut Tribe) and the Tubatulabals of Kern Valley, a non-Federally recognized Indian group, the basket has been identified as a treasure basket or Osa. This type of basket was used for the storage of sacred items such as crystals, abalone ornaments and paint and was used to hold a rattlesnake for the rattlesnake dance during both Yokut and Tubatulabal spring ceremonies.

Based on consultation, ethnographic research, and museum records, the basket is culturally affiliated with the Santa Rosa Indian Community of the Santa Rosa Rancheria, California, (Tachi Yokut Tribe) and the Tubatulabals of Kern Valley, a non-Federally recognized group. The Tubatulabal people are intermarried with the Yokuts in the Kern County area of California. Descendants of these Yokuts and Tubatulabals are members of the Santa Rosa Indian Community of the Santa Rosa Rancheria, California, (Tachi Yokut Tribe) and the Tubatulabals of Kern Valley, a non-Federally recognized Indian group.

Determinations Made by the San Francisco State University

Officials of the San Francisco State University have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the basket and the Santa Rosa Indian Community of the Santa Rosa Rancheria, California, (Tachi Yokut Tribe) and the Tubatulabals of Kern Valley, a non-Federally recognized Indian group.

Additional Requestors and Disposition

Representatives of any other Indian tribe that believes itself to be culturally affiliated with the sacred object should contact Jeffrey Boland Fentress, San Francisco State University, Academic Affairs-ADM 447, San Francisco, CA 94132, telephone (415) 338-3075 before April 16, 2012. Repatriation of the sacred object to the Santa Rosa Indian Community of the Santa Rosa Rancheria, California (Tachi Yokut Tribe) may proceed after that date if no additional claimants come forward.

The San Francisco State University is responsible for notifying the Picayune Rancheria of Chukchansi Indians of California; Santa Rosa Indian Community of the Santa Rosa Rancheria, California (Tachi Yokut Tribe); Table Mountain Rancheria of California; Tule River Indian Reservation of the Tule River Reservation, California; and the Tubatulabals of Kern Valley, a non-Federally recognized Indian group, that this notice has been published.

Dated: March 12, 2012.
Sherry Hutt,
Manager, National NAGPRA Program.

[FR Doc. 2012-6326 Filed 3-15-12; 8:45 am]

BILLING CODE 4312-50-P